DEPARTMENT OF AGRICULTURE

Foreign Agricultural Service

Trade Adjustment Assistance for Farmers

AGENCY: Foreign Agricultural Service, USDA.

ACTION: Notice.

The Administrator, Foreign Agricultural Service (FAS), today accepted a petition filed by a group of freshwater prawn producers from Kentucky for trade adjustment assistance. The Administrator will determine within 40 days whether or not imports of farmed shrimp contributed importantly to a decline in domestic producer prices by more than 20 percent during the marketing period beginning January 2002 and ending December 2002. If the determination is positive, all Kentucky freshwater prawn producers will be eligible to apply to the Farm Service Agency for technical assistance at no cost and adjustment assistance.

FOR FURTHER INFORMATION CONTACT: Jean-Louis Pajot, Coordinator, Trade Adjustment Assistance for Farmers, FAS, USDA, (202) 720-2916, email: trade.adjustment@fas.usda.gov.

Dated: February 6, 2004.
A. Ellen Terpstra,
Administrator, Foreign Agricultural Service.

[FR Doc. 04-3804 Filed 2-20-04; 8:45 am]

BILLING CODE 3410-10-P